DEPARTMENT OF HEALTH AND HUMAN SERVICES

Centers for Disease Control and Prevention

[Program Announcement 03190]

Monitoring, Evaluation, and Prevention of HIV/AIDS in the Cooperative Republic of Guyana; Notice of Intent To Fund Single Eligibility Award

A. Purpose

The Centers for Disease Control and Prevention (CDC) announces the intent to fund fiscal year (FY) 2003 funds for a cooperative agreement program for monitoring, evaluation, and information systems improvement to implement integrated care and prevention of HIV/AIDS in the Cooperative Republic of Guyana. The Catalog of Federal Domestic Assistance number for this program is 93.941.

B. Eligible Applicant

Assistance will be provided only to the Ministry of Health (MOH) of Guyana. The MOH is the only appropriate and qualified organization to conduct a specific set of activities supportive of the CDC Global AIDS Program's technical assistance to Guyana for the following reasons: (1) The MOH is uniquely positioned, in terms of legal authority, ability, and credibility among Guyanese citizens, to collect crucial data on HIV/AIDS as well as to provide care to HIV infected patients; (2) The MOH is mandated by Guyanese laws to implement care and treatment activities necessary for the control of epidemics, including HIV/AIDS; (3) The MOH already has an established network of health care facilities throughout the country. These treatment facilities include treatment centers, maternal-child health clinics, and infectious disease centers which take care of a significant number of HIV/AIDS patients. These facilities are accessible and provide health information and care for patients with HIV/AIDS, enabling the Ministry to become immediately engaged in the activities listed in this announcement; and (4) The MOH has trained physicians, nurses, and social workers already working in their network of health care facilities around the country who can carry out the activities listed in this announcement. On April 4, 2003, the United States Department of Health and Human Services signed a memorandum of understanding with the Guyanese Ministry of Health to collaborate on program implementation related to HIV/AIDS, including operations research.

C. Funding

Approximately $200,000 is available in FY 2003 to fund this award. It is expected that the award will begin on or before September 15, 2003, and will be made for a 12-month budget period within a project period of up to five years. Funding estimate may change.

D. Where To Obtain Additional Information

For general comments or questions about this announcement, contact:

Technical Information Management, CDC Procurement and Grants Office, 2920 Brandywine Road, Atlanta, GA 30341-4146, Telephone: 770-488-2700.

For technical questions about this program, contact: Okechukwu C. Nwanyanwu, Ph.D., Director, Global AIDS Program, Guyana, Centers for Disease Control and Prevention, Department of Health and Human Services, c/o U.S. Embassy, 100 Young and Duke Streets, Georgetown, Guyana, South America, Telephone: (592) 223-6501 or (592) 223-6503, Fax: (592) 225-8497, e-mail: ocn1@cdc.gov.

Dated: August 8, 2003.
Edward Schultz,
Acting Director, Procurement and Grants Office, Centers for Disease Control and Prevention.

[FR Doc. 03-20706 Filed 8-13-03; 8:45 am]

BILLING CODE 4163-18-P